DEPARTMENT OF EDUCATION

[CFDA No. 84.184L]

Safe Schools/Healthy Students

AGENCY: Office of Safe and Drug-Free Schools, Department of Education.

ACTION: Notice of intent to fund down the grant slate for the Safe Schools/Healthy Students program.

SUMMARY: The Secretary intends to use the grant slate developed for the Safe Schools/Healthy Students program in Fiscal Year (FY) 2005 to make new grant awards in FY 2006. The Secretary takes this action because a significant number of high-quality applications remain on last year's grant slate and limited funding is available for new grant awards in FY 2006.

FOR FURTHER INFORMATION CONTACT: Karen Dorsey, U.S. Department of Education, 400 Maryland Avenue, SW., room 3E336, Washington, DC 20202-6450. Telephone: (202) 708-4647 or via Internet: Karen.Dorsey@ed.gov.

If you use a telecommunications device for the deaf (TDD), you may call the Federal Relay Service (FRS) at 1-800-877-8339.

Individuals with disabilities may obtain this document in an alternative format (e.g., Braille, large print, audiotape, or computer diskette) on request to the contact person listed under FOR FURTHER INFORMATION CONTACT.

Background

On March 10, 2005, we published a notice in the Federal Register (70 FR 11948) inviting applications for new awards under the Safe Schools/Healthy Students program. This notice indicated that the final priority, selection criteria, requirements, and definitions published in a notice in the Federal Register on May 28, 2004 (69 FR 30756) would apply to the FY 2005 grant competition.

We received a significant number of applications for grants under the Safe Schools/Healthy Students program in FY 2005 and made 40 new grants. Because such a large number of high-quality applications were received, many applications that were awarded high scores by peer reviewers did not receive funding last year.

Limited funding is available for new awards under this program in FY 2006. In order to conserve funding that would have been required for a peer review of new applications submitted under the program, we intend to select grantees in FY 2006 from the existing slate of applicants. This slate was developed during the FY 2005 competition using the final priority, selection criteria, requirements, and definitions referenced in the March 10, 2005 notice. No changes to the final priority, selection criteria, requirements, and definitions will be required by this action.

Electronic Access to This Document

You may view this document, as well as all other documents of this Department published in the Federal Register, in text or Adobe Portable Document Format (PDF) on the Internet at the following site: http://www.ed.gov/news/fedregister.

To use PDF you must have Adobe Acrobat Reader, which is available free at this site. If you have questions about using PDF, call the U.S. Government Printing Office (GPO), toll free, at 1-888-293-6498; or in the Washington, DC, area at (202) 512-1530.

Note: The official version of this document is the document published in the Federal Register. Free Internet access to the official edition of the Federal Register and the Code of Federal Regulations is available on GPO Access at: http://www.gpoaccess.gov/nara/index.html.

Program Authority: Safe and Drug-Free Schools and Communities Act (20 U.S.C. 7131); Public Health Service Act (42 U.S.C. 290aa); and Juvenile Justice and Delinquency Prevention Act (42 U.S.C. 5614(b)(4)(e) and 5781 et seq.).

Dated: February 28, 2006.
Deborah A. Price,
Assistant Deputy Secretary for Safe and Drug-Free Schools.

[FR Doc. E6-3083 Filed 3-2-06; 8:45 am]

BILLING CODE 4000-01-P